ENVIRONMENTAL PROTECTION AGENCY

40 CFR Part 52

[EPA-R07-OAR-2013-0672; FRL-9909-42-Region 7]

Approval and Promulgation of Implementation Plans; State of Missouri

AGENCY: Environmental Protection Agency (EPA).

ACTION: Proposed rule.

SUMMARY: EPA is proposing action to approve a revision to the State Implementation Plan (SIP) submitted by the State of Missouri for the purpose of incorporating administrative changes to the Missouri rule entitled, “Municipal Solid Waste Landfills”. EPA is proposing to approve this SIP revision based on EPA's finding that the rule is as stringent as the rule it replaces and fulfills the requirements of the Clean Air Act (CAA or Act) for the protection of the ozone National Ambient Air Quality Standards (NAAQS) in St. Louis.

DATES: Comments on this proposed action must be received in writing by May 15, 2014.

ADDRESSES: Submit your comments, identified by Docket ID No. EPA-R07-OAR-2013-0672, by mail to Craig Bernstein, Environmental Protection Agency, Air Planning and Development Branch, 11201 Renner Boulevard, Lenexa, Kansas 66219. Comments may also be submitted electronically or through hand delivery/courier by following the detailed instructions in the ADDRESSES section of the direct final rule located in the rules section of this Federal Register.

FOR FURTHER INFORMATION CONTACT: Craig Bernstein, Environmental Protection Agency, Air Planning and Development Branch, 11201 Renner Boulevard, Lenexa, Kansas 66219; at 913-551-7688; or by email at Bernstein.craig@epa.gov.

SUPPLEMENTARY INFORMATION: In the final rules section of this Federal Register, EPA is approving the state's SIP revision as a direct final rule without prior proposal because the Agency views this as a noncontroversial action and anticipates no relevant adverse comments because the revisions are administrative and consistent with Federal regulations. A detailed rationale for the approval is set forth in the direct final rule. If no relevant adverse comments are received in response to this action, no further activity is contemplated in relation to this action. If EPA receives relevant adverse comments, the direct final rule will be withdrawn and all public comments received will be addressed in a subsequent final rule based on this proposed action. EPA will not institute a second comment period on this action. Any parties interested in commenting on this action should do so at this time. Please note that if EPA receives adverse comment on part of this rule and if that part can be severed from the remainder of the rule, EPA may adopt as final those parts of the rule that are not the subject of an adverse comment. For additional information, see the direct final rule which is located in the rules section of this Federal Register.

Dated: April 3, 2014.
Karl Brooks,
Regional Administrator, Region 7.

[FR Doc. 2014-08339 Filed 4-14-14; 8:45 am]

BILLING CODE 6560-50-P